SURFACE TRANSPORTATION BOARD

[Docket No. EP 736]

InterVISTAS Study

AGENCY: Surface Transportation Board.

ACTION: Notice of roundtable discussion.

SUMMARY: The Board will host a roundtable discussion among noted economists on an independent report that assesses the Board's rate reasonableness methodologies, including the stand-alone cost methodology, and possible alternatives.

DATES: The roundtable discussion will take place on Tuesday, October 25, 2016, from 10:00 a.m. to 12:30 p.m.

ADDRESSES: The roundtable discussion will be held in the Hearing Room on the first floor of the Board's headquarters at Patriot's Plaza, 395 E Street SW., Washington, DC 20423-0001.

FOR FURTHER INFORMATION CONTACT: Nathaniel Bawcombe: (202) 245-0376. [Assistance for the hearing impaired is available through the Federal Information Relay Service (FIRS) at 1-800-877-8339.]

SUPPLEMENTARY INFORMATION: The Board commissioned a study by InterVISTAS Consulting LLC (InterVISTAS) in late 2014, and the study was released by the Board on September 22, 2016. The Board asked for an independent assessment of its stand-alone cost (SAC) rate reasonableness methodology and possible alternatives. Among other things, the scope of the work required InterVISTAS to look for alternative methodologies to SAC that could be used to reduce the time, complexity, and expense historically involved in rate cases; determine whether SAC is sufficient for large rate cases; and whether the Board's simplified methodologies were appropriate alternatives to SAC. The report is available at https://www.stb.gov/stb/elibrary/IndependentStudy.html.

To promote discourse on these issues, the Board will hold an economic roundtable regarding the issues and conclusions presented in the report. The panel will include the following independent and government economists:

Michael Tretheway, InterVISTAS Consulting LLC

Richard Schmalensee, Massachusetts Institute of Technology

Wesley W. Wilson, University of Oregon

John Mayo, Georgetown University

Jeffrey Macher, Georgetown University

Mark Cooper, Consumer Federation of America

Russell Pittman, Director of Economic Research in the Economic Analysis Group,

Antitrust Division, U.S. Department of Justice

William Huneke, Chief Economist, Surface Transportation Board, Office of Economics

William Brennan, Deputy Director, Surface Transportation Board, Office of Economics

The roundtable discussion will be open for public observation but not public participation. In addition, the discussion will be available on the Board's Web site by live video streaming. To access the roundtable, click on the “Live Video” link under “Information Center” at the left side of the home page beginning at 10:00 a.m. on October 25, 2016. The Board also intends to hold a public hearing on the report for all stakeholders and interested parties to participate in this important discourse. The date of that hearing will be announced in a subsequent Board decision.

Decided: October 12, 2016.
By the Board, Rachel D. Campbell, Director, Office of Proceedings.
Kenyatta Clay,
Clearance Clerk.

[FR Doc. 2016-25020 Filed 10-14-16; 8:45 am]

BILLING CODE 4915-01-P